DEPARTMENT OF AGRICULTURE

Agricultural Marketing Service

[Doc. No. AMS-SC-19-0098; SC20-983-1]

Notice of Request for Extension and Revision of a Currently Approved Information Collection for Pistachios Grown in California, Arizona, and New Mexico (Marketing Order No. 983)

AGENCY: Agricultural Marketing Service, USDA.

ACTION: Notice and request for comments.

SUMMARY: In accordance with the Paperwork Reduction Act of 1995, this notice announces the Agricultural Marketing Service's (AMS) intent to request an extension for and revision to a currently approved information collection for Pistachios Grown in California, Arizona, and New Mexico, pursuant to Federal Marketing Order No. 983.

DATES: Comments on this notice must be received by February 10, 2020.

ADDRESSES: Interested persons are invited to submit written comments concerning this notice. Comments must be sent to the Docket Clerk, Marketing Order and Agreement Division, Specialty Crops Program, AMS, USDA, 1400 Independence Avenue SW, STOP 0237, Washington, DC 20250-0237; Fax: (202) 720-8938; or internet: www.regulations.gov. Comments should reference the docket number and the date and page number of this issue of the Federal Register and will be available for public inspection in the Office of the Docket Clerk during regular business hours, or can be viewed at: www.regulations.gov. All comments submitted in response to this notice will be included in the record and will be made available to the public. Please be advised that the identity of individuals or entities submitting the comments will be made public on the internet at the address provided above.

FOR FURTHER INFORMATION CONTACT: Pushpa Kathir, Marketing Specialist, Marketing Order and Agreement Division, Specialty Crops Program, AMS, USDA, 1400 Independence Avenue SW, Stop 0237, Washington, DC 20250-0237; Telephone:(202) 205-2829; Fax: (202) 720-8938; or Email: pushpa.kathir@usda.gov.

Small businesses may request information on this notice by contacting Richard Lower, Marketing Order and Agreement Division, Specialty Crops Program, AMS, USDA, 1400 Independence Avenue SW, STOP 0237, Washington, DC 20250-0237; Telephone: (202) 720-2491; Fax: (202) 720-8938; or Email: richard.lower@usda.gov.

SUPPLEMENTARY INFORMATION:

Title: Pistachios Grown in California, Arizona, and New Mexico, Marketing Order No. 983.

OMB Number: 0581-0215.

Expiration Date of Approval: June 30, 2020.

Type of Request: Extension and revision of a currently approved information collection.

Abstract: Under the Agricultural Marketing Agreement Act of 1937 (AMAA), as amended (7 U.S.C. 601-674), fresh fruits, vegetables, and specialty crop industries can enter into marketing order programs which provide an opportunity for producers, in a specified production area, to work together to solve marketing problems that cannot be solved individually. The Secretary of Agriculture is authorized to oversee the marketing order's operations and issue regulations recommended by a committee of representatives from each commodity industry.

The Specialty Crops Program is part of the larger AMS, and is responsible for overseeing Federal marketing order operations.

This notice pertains to the Federal marketing order regulating the handling of pistachios grown in California, Arizona, and New Mexico (7 CFR part 983), hereinafter referred to as the “Order.” The Order authorizes grade and size requirements, as well as a requirement for aflatoxin testing on domestic shipments only.

The Administrative Committee for Pistachios (Committee) locally administers the Order that requires handlers to submit certain information to the Committee to effectively implement program requirements, fulfill the intent of the AMAA, and assist the industry in carrying out marketing decisions. Only authorized employees of the Committee, and authorized representatives of the USDA have access to information provided on the forms.

Requesting public comments on the forms described below is part of the process to obtain approval through the Office of Management and Budget (OMB).

The forms needing OMB approval are contained in OMB No. 0581-0215 and include Committee nominations and ballots for producers (SC-245 and SC-246) and handlers (SC-245A and SC-244); background statements for Committee nominees (SC-243); marketing agreement (SC-242); and referendum (SC-240A) and continuance ballots (SC-240).

There are also forms to report assessment receipts (ACP-1), notify for failed lot dispositions (ACP-2), apply for exemption from handling requirements (ACP-3), request for minimal testing for aflatoxins (ACP-4), report inter-handler transfers (ACP-5), provide monthly inventory and shipment data (ACP-6), and submit lists of producers and deliveries (ACP-7).

In this renewal, the Committee suggested modifications to forms to streamline the process of pistachio handlers reporting information. The Failed Lot Notification (ACP-2) was combined with the Failed Lot Disposition and Rework Report (ACP-3) to make a new ACP-2 form. The remaining ACP forms were renumbered to maintain sequential order.

Estimate of Burden: Public reporting burden for this collection of information is estimated to average 0.28 hours per response.

Respondents: Pistachio producers, handlers, and testing laboratories.

Estimated Number of Respondents: 1220.

Estimated Number of Responses: 1959.37.

Estimated Number of Responses per Respondent: 1.61.

Estimated Total Annual Burden on Respondents: 540.29 hours.

Comments: Comments are invited on: (1) Whether the proposed collection of the information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology.

All responses to this notice will be summarized and included in the request for OMB approval. All comments will also become a matter of public record.

Authority: Paperwork Reduction Act of 1995 (44 U.S.C. Chapter 35).

Dated: December 2, 2019.
Bruce Summers,
Administrator, Agricultural Marketing Service.

[FR Doc. 2019-26542 Filed 12-9-19; 8:45 am]

BILLING CODE 3410-02-P